DEPARTMENT OF AGRICULTURE

Office of the Secretary

Members of Performance Review Boards

AGENCY: Office of the Secretary, USDA.

ACTION: Notice.

SUMMARY: This notice announces the appointment of members of the Performance Review Boards (PRBs) for the U.S. Department of Agriculture (USDA). The USDA PRBs provide fair and impartial review of Senior Executive Service (SES) performance appraisals and make recommendations to the Secretary of Agriculture, regarding final performance ratings, performance awards, pay adjustments, recertification and Presidential Rank Awards for SES members.

EFFECTIVE DATE: On publication in the Federal Register.

FOR FURTHER INFORMATION CONTACT: Barbara Holland, Office of Human Resources Management, Executive Resources and Services Division, U.S. Department of Agriculture, 1400 Independence Avenue, SW, Washington, DC 20250, (202) 720-6047.

SUPPLEMENTARY INFORMATION: The publication of PRB membership is required by Section 4314(c)(4) of Title 5, U.S.C. The following membership list represents the USDA PRB's.

Food Safety/Marketing & Regulatory Programs

Elsa Murano, Chairperson

Bill Hawks, MRP

Margaret Glavin, FSIS

Bobby Acord, APHIS

Kenneth Clayton, AMS

David Shipman, GIPSA

Ruthie Jackson, FNS

Alberta Frost, FNS

John Golden, OGC

Research, Education & Economics

Joseph Jen, Chairperson

R. Ron Bosecker, NASS

Floyd Horn, ARS

Susan Offutt, ERS

Colien Hefferan, CSREES

Frances Zorn, FNS

Office of the Secretary

James Moseley, Chairperson

Dale Moore, OSEC

Larry Wachs, OBPA

David Winningham, Civil Rights

J. Michael Kelly, OGC

Patricia Healy, OCFO

Alternate: Priscilla Carey, OO

Natural Resources & Environment

Patricia Healy, OCFOv

Mark Rey, Chairperson

Ira Hobbs, OCIO

Besty Kuhn, ERS

Roger Conway, OCE

Alternates: Hubert Hamer, NASS, Priscilla Carey, OO

Food Nutrition & Consumer Services; Rural Development; and, Farm & Foreign Agricultural Services

Eric Bost, Chairperson

Michael Neruda, RD

Hunt Shipman, F&FAS

Christine Pytel, NRCS

Ira Hobbs, OCIO

Ronald Hill, OGC

Judith Riggins, FSIS

Alternate: Kyle Jane Coulter, CSREES

Staff Offices & Administration

Lou Gallegos, Chairperson

Edward McPherson, OCFO

Elsa Murano, FSIS

J. Michael Kelly, OGC

Keith Collins, OCE

Ira Hobbs, OCIO

Stephen Dewhurst, OBPA

Clyde Thompson, FS

Dated: November 26, 2001.
Ann M. Veneman,
Secretary of Agriculture.

[FR Doc. 01-29998 Filed 12-3-01; 8:45 am]

BILLING CODE 3410-96-P